DEPARTMENT OF HOMELAND SECURITY

Coast Guard

33 CFR Part 117

[Docket No. USCG-2017-0927]

Drawbridge Operation Regulation; James River, Hopewell, VA

AGENCY: Coast Guard, DHS.

ACTION: Notice of deviation from drawbridge regulation.

SUMMARY: The Coast Guard has issued a temporary deviation from the operating schedule that governs the SR 156/Benjamin Harrison Memorial Bridge which carries SR 156 across the James River, mile 65.0, at Hopewell, VA. The deviation is necessary to facilitate bridge maintenance. This deviation allows the bridge to remain in the closed-to-navigation position.

DATES: This deviation is effective without actual notice from October 2, 2017 through 5 a.m. on Saturday, October 7, 2017. For the purposes of enforcement, actual notice will be used from 7 p.m. on Saturday, September 30, 2017, until October 2, 2017.

ADDRESSES: The docket for this deviation, [USCG-2017-0927] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Virginia Department of Transportation, owner and operator of the SR 156/Benjamin Harrison Memorial Bridge that carries SR 156, across the James River, mile 65.0, at Hopewell, VA, has requested a temporary deviation from the current operating schedule to facilitate structural steel maintenance of the vertical lift span for the drawbridge. The bridge has a vertical clearance of 50 feet above mean high water in the closed position and 145 feet above mean high water in the open position.

The current operating schedule is set out in 33 CFR 117.5. Under this temporary deviation, the bridge will be in the closed-to-navigation position from 7 p.m. to 5 a.m., daily, all week, on Saturday, September 30, 2017, through Saturday, October 7, 2017.

The James River is used by a variety of vessels including U.S. Government and public vessels, commercial vessels, tug and barge traffic, and recreational vessels. The Coast Guard has carefully considered the nature and volume of vessel traffic on the waterway in publishing this temporary deviation. Vessels able to pass through the bridge in the closed-to-navigation position may do so at any time. The bridge will be able to open for emergencies and will open on signal during the closure period, if 30 minutes notice is given. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 27, 2017.
Hal R. Pitts,
Bridge Program Manager, Fifth Coast Guard District.

[FR Doc. 2017-21066 Filed 9-29-17; 8:45 am]

BILLING CODE 9110-04-P